DEPARTMENT OF DEFENSE

Department of the Navy

Notice of Availability of Government-Owned Inventions; Available for Licensing

AGENCY: Department of the Navy, DOD.

ACTION: Notice.

SUMMARY: The inventions listed below are assigned to the United States Government, as represented by the Secretary of the Navy and are available for licensing by the Department of the Navy. U.S. Patent No. 6,903,676 entitled “Integrated Radar, Optical Surveillance, and Sighting System”, U.S. Patent No. 6,902,316 entitled “Non-Invasive Corrosion Sensor”, U.S. Patent Application No. 11/144,849 entitled “Improved Pyrotechnic Thermite Composition”, and U.S. Patent Application No. 11/144,850 entitled “Smokeless Flash Powder”.

ADDRESSES: Requests for copies of the inventions cited should be directed to the Naval Surface Warfare Center, Crane Div., Code 054, Bldg 2, 300 HWY 361, Crane, IN 47522-5001 and must include the patent number.

FOR FURTHER INFORMATION CONTACT: Mr. Brian Bailey, Naval Surface Warfare Center, Crane Div., Code 054, Bldg 2, 300 HWY 361, Crane, IN 47522-5001, telephone 812-854-1865. An application for license may be downloaded from: http://www.crane.navy.mil/newscommunity/techtrans_CranePatents.asp.

(Authority: 35 U.S.C. 207, 37 CFR part 404.)

Dated: June 14, 2005.
I. C. Le Moyne Jr.,
Lieutenant, Judge Advocate General's Corps, U.S. Navy, Alternate Federal Register Liaison Officer.

[FR Doc. 05-12493 Filed 6-23-05; 8:45 am]

BILLING CODE 3810-FF-P